DEPARTMENT OF LABOR

Employment and Training Administration

Agency Information Collection Activities; Comment Request; Extension Package for Form ETA-9089, Application for Permanent Employment Certification, and Appendices

AGENCY: Employment and Training Administration, Department of Labor.

ACTION: Notice; request for comments.

SUMMARY: The Department of Labor's (DOL) Employment and Training Administration (ETA) is soliciting comments concerning a proposed extension for the authority to conduct the information collection request (ICR) for Application for Permanent Employment Certification; and related information collection and retention requirements (OMB Control Number 1205-0451), which covers Form ETA-9089, Application for Permanent Employment Certification; Form ETA-9089, Final Determination: Permanent Employment Certification Approval; Form ETA-9089, Appendix A, Foreign Worker Information; Form ETA-9089, Appendix B, Additional Worksite Information; Form ETA-9089, Appendix C, Supplemental Information; Form ETA-9089, Appendix D, Special Recruitment for College and University Teachers, and Form ETA-9089, General Instructions. This action seeks an extension of the information collection without changes. This comment request is part of continuing Departmental efforts to reduce paperwork and respondent burden in accordance with the Paperwork Reduction Act of 1995 (PRA).

DATES: Consideration will be given to all written comments received by September 5, 2025.

ADDRESSES: A copy of this ICR with applicable supporting documentation, including a description of the likely respondents, proposed frequency of response, and estimated total burden, may be obtained for free by contacting Brian Pasternak, Administrator, Office of Foreign Labor Certification, by telephone at 202-693-8200 (this is not a toll-free number), TTY 1-877-889-5627 (this is not a toll-free number), or by email at ETA.OFLC.Forms@dol.gov.

Instructions: Submit written comments about, or requests for a copy of, this ICR by email at ETA.OFLC.Forms@dol.gov. To ensure proper consideration, include the OMB control number 1205-0451.

FOR FURTHER INFORMATION CONTACT: Brian Pasternak, Administrator, Office of Foreign Labor Certification, by telephone at 202-693-8200 (this is not a toll-free number) or by email at ETA.OFLC.Forms@dol.gov.

SUPPLEMENTARY INFORMATION: DOL, in its continuing efforts to reduce paperwork and respondent burden, conducts a pre-clearance consultation program to provide the general public and Federal agencies an opportunity to comment on proposed and/or continuing collections of information before submitting them to the Office of Management and Budget (OMB) for final approval. This program ensures the public provides all necessary data in the desired format, the reporting burden (time and financial resources) is minimized, collection instruments are clearly understood, and the impact of collection requirements can be properly assessed.

Section 212(a)(5)(A) of the Immigration and Nationality Act (INA), 8 U.S.C. 1182(a)(5)(A), requires the Secretary of Labor to certify that any foreign worker seeking to enter the United States for the purpose of performing skilled or unskilled labor will not adversely affect the wages and working conditions of U.S. workers “able, willing, qualified, and available” to perform such labor.¹ DOL uses Form ETA-9089 and its appendices to collect information about a sponsoring employer's job offer and a foreign national's education and work history, which are necessary to determine whether the admission of that foreign national meets the requirements for certification under Section 212(a).

¹ See also 20 CFR 656.2(c).

Employers seeking to sponsor workers as sheepherders or in Schedule A occupations file Form ETA-9089 directly with the Department of Homeland Security (DHS). DHS also accepts the Form ETA-9089 for its National Interest Waiver program.

This information collection is authorized by INA Sections 212(a)(5)(A), 203(b)(2), and 203(b)(3) and 8 U.S.C. 1153(b)(2) and (b)(3) and 1182(a)(5)(A), DOL and the U.S. Department of Homeland Security (DHS) have promulgated regulations to implement provisions of the INA at 20 CFR part 656 and 8 CFR 204.5. This information collection is subject to PRA.

A federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The current ICR expires October 31, 2025. DOL seeks to extend, without changes, the validity of Form ETA-9089, Application for Permanent Employment Certification; Form ETA-9089, Final Determination: Permanent Employment Certification Approval; Form ETA-9089, Appendix A, Foreign Worker Information; Form ETA-9089, Appendix B, Additional Worksite Information; Form ETA-9089, Appendix C, Supplemental Information; Form ETA-9089, Appendix D, Special Recruitment for College and University Teachers, and Form ETA-9089, General Instructions.

Interested parties are encouraged to provide comments regarding this ICR to the contact shown in the ADDRESSES section. Comments must be written to receive consideration, and they will be summarized and included in the request for OMB approval of the final ICR. To help ensure appropriate consideration, comments should mention OMB control number 1205-0451.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Extension Without Changes.

Title of Collection: Application for Permanent Employment Certification.

Forms: Form ETA-9089, Application for Permanent Employment Certification; Form ETA-9089, Final Determination: Permanent Employment Certification Approval; Form ETA-9089, Appendix A, Foreign Worker Information; Form ETA-9089, Appendix B, Additional Worksite Information; Form ETA-9089, Appendix C, Supplemental Information; Form ETA-9089, Appendix D, Special Recruitment for College and University Teachers, and Form ETA-9089, General Instructions.

OMB Control Number: 1205-0451.

Affected Public: Individuals or Households; Private Sector (businesses or other for profits); Not-for-profit Institutions; Government, State, Local and Tribal Governments.

Total Estimated Number of Annual Respondents: 40,576.33.

Annual Frequency: Varies by form.

Total Estimated Number of Annual Responses: 954,186.66.

Estimated Time per Response: Varies by form.

Total Estimated Annual Burden Hours: 342,449.42 hours.

Total Estimated Annual Other Costs: $18,639,521.42.

(Authority: 44 U.S.C. 3506(c)(2)(A).)

Susan Frazier,
Acting Assistant Secretary for Employment and Training, Labor.

[FR Doc. 2025-12553 Filed 7-3-25; 8:45 am]

BILLING CODE 4510-FP-P